DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before March 19, 2007.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave., SW., Room 4102, Albuquerque, New Mexico. Please refer to the respective permit number for each application when submitting comments. All comments received, including names and addresses, will become part of the official administrative record and may be made available to the public.

FOR FURTHER INFORMATION CONTACT: Chief, Endangered Species Division, P.O. Box 1306, Room 4102, Albuquerque, New Mexico 87103, (505) 248-6920.

SUPPLEMENTARY INFORMATION:

Permit No. TE-141246

Applicant: Canyon de Chelly, Chinle, Arizona. Applicant requests a new permit for research and recovery purposes to conduct presence/absence surveys for the southwestern willow flycatcher (Empidonax traillii extimus) within Arizona.

Permit No. TE-141253

Applicant: Priscilla Crawford, Norman, Oklahoma. Applicant requests a new permit for research and recovery purposes to conduct presence/absence surveys for the interior least tern (Sterna antillarum) within Oklahoma.

Permit No. TE-024789

Applicant: Douglas Colby Henley, Tucson, Arizona. Applicant requests an amendment to an existing permit to conduct presence/absence surveys for the following species within Arizona, New Mexico, and Texas: Interior least tern (Sterna antillarum), northern aplomado falcon (Falco femoralis septentrionalis), and southwestern willow flycatcher (Empidonax traillii extimus).

Permit No. TE-142723

Applicant: Texas Department of Transportation, Austin, Texas. Applicant requests a new permit for research and recovery purposes to conduct presence/absence surveys for the following species within Texas: jaguarundi (Herpailurus yagouaroundi cacomitli), ocelot (Leopardus pardalis), black-capped vireo (Vireo atricapillus), golden-cheeked warbler (Dendroica chrysoparia), northern aplomado falcon (Falco femoralis septentrionalis), red-cockaded woodpecker (Picoides borealis), and Houston toad (Bufo houstonensis). Additionally, applicant requests authorization to survey for and collect the following species within Texas: Batrisodes texanus (Coffin Cave mold beetle), Batrisodes venyivi (Helotes mold beetle), Cicurina baronia (Robber Baron Cave meshweaver), Cicurina madla (Madla's cave meshweaver), Cicurina venii (Braken Bat Cave meshweaver), Cicurina vespera (Government Canyon Bat Cave meshweaver), Neoleptoneta microps (Government Canyon Bat Cave spider), Neoleptoneta myopica (Tooth Cave spider), Rhadine exilis (ground beetle, no common name), Rhadine infernalis (ground beetle, no common name), Rhadine persephone (Tooth Cave ground beetle), Tartarocreagris texana (Tooth Cave pseudoscorpion), Texamaurops reddelli (Kretschmarr Cave mold beetle), Texella cokendolpheri (Cokendolpher cave harvestman), Texella reddelli (Bee Creek Cave harvestman), and Texella reyesi (Bone Cave harvestman).

Permit No. TE-829996

Applicant: Houston Zoo, Inc., Houston, Texas. Applicant requests an amendment to an existing permit for research and recovery purposes to establish and maintain captive breeding facilities for Barton Springs salamander (Eurycea sosorum) and Houston toad (Bufo houstonensis) within Texas.

Authority: 16 U.S.C. 1531, et seq.

Dated: December 27, 2006.
Nancy J. Gloman,
Acting Regional Director, Region 2, Albuquerque, New Mexico.

[FR Doc. 07-716 Filed 2-15-07; 8:45 am]

BILLING CODE 4310-55-M